DEPARTMENT OF HOMELAND SECURITY

Federal Emergency Management Agency

[Docket ID: FEMA-2022-0037; OMB No. 1660-NW163]

Agency Information Collection Activities: Submission for OMB Review, Comment Request; Generic Clearance for Notice of Loss and Proof of Loss

AGENCY: Federal Emergency Management Agency, Department of Homeland Security.

ACTION: 30-Day notice of new collection and request for comments.

SUMMARY: The Federal Emergency Management Agency (FEMA) will submit the information collection abstracted below to the Office of Management and Budget for review and clearance in accordance with the requirements of the Paperwork Reduction Act of 1995. The submission seeks comments concerning the Generic Clearance for the Collection of the Notice of Loss and Proof of Loss for claimants who file a claim with the Agency seeking compensation for injury or loss of property resulting from fires.

DATES: Comments must be submitted on or before September 11, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C St SW, Washington, DC 20472, email address: FEMA-Information-Collections-Management@fema.dhs.gov or Angelica Searls, Emergency Management Specialist, Recovery Directorate, Federal Emergency Management Agency, 202-701-9021, fema-hermits-peak@fema.dhs.gov.

SUPPLEMENTARY INFORMATION: FEMA proposes to collect information from parties who apply for compensation under FEMA-established fire claims programs stemming from its role providing financial assistance and direct services to individuals applying for disaster assistance benefits in the event of a federally declared disaster as specified by the Robert T. Stafford Disaster Relief and Emergency Assistance Act (Stafford Act), Public Law 93-288, as amended (42 U.S.C. 5121-5207). On September 30, 2022, President Biden signed into law the Hermit's Peak/Calf Canyon Fire Assistance Act (“Act”) Public Law 117-180, Division G—Hermit's Peak/Calf Canyon Fire Assistance Act. Congress passed the Act to compensate those claimants who suffered injury and loss of property from the Hermit's Peak/Calf Canyon Fire. A generic clearance will help minimize delays in FEMA's ability to respond to future fire incidents resulting in the establishment of claims offices.

This proposed information collection previously published in the Federal Register on May 5, 2023, at 88 FR 29144 with a 60-day public comment period. No comments were received. The purpose of this notice is to notify the public that FEMA will submit the information collection abstracted below to the Office of Management and Budget for review and clearance.

Collection of Information

Title: Generic Clearance for Notice of Loss and Proof of Loss.

Type of Information Collection: New information collection.

OMB Number: 1660-NW163.

FEMA Forms: None.

Abstract: The Federal Emergency Management Agency (FEMA) will use the collected information to commence the process and procedures for claimants to seek compensation for injury or loss of property resulting from the Hermit's Peak/Calf Canyon Fire, and other fires that meet the criteria. Affected State, local and Tribal governments, private sector businesses, not-for-profit organizations, and individuals and households that suffered injuries resulting from fires will be eligible to apply for compensation. Claimants will submit a Notice of Loss to the Agency, meet with a FEMA Claims Reviewer, obtain documentation needed to substantiate claims, sign a Proof of Loss, and complete and return a Release and Certification form.

Affected Public: Individuals or households, State, local or Tribal government, private sector businesses, and not-for-profit organizations.

Estimated Number of Respondents: 287,250.

Estimated Number of Responses: 287,250.

Estimated Total Annual Burden Hours: 732,489.

Estimated Total Annual Respondent Cost: $31,606,900.

Estimated Respondents' Operation and Maintenance Costs: $0.

Estimated Respondents' Capital and Start-Up Costs: $0.

Estimated Total Annual Cost to the Federal Government: $65,103,002.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent L. Brown,
Records Management Branch Chief, Office of the Chief Administrative Officer, Mission Support, Federal Emergency Management Agency, Department of Homeland Security.

[FR Doc. 2023-17282 Filed 8-10-23; 8:45 am]

BILLING CODE 9111-68-P